ELECTION ASSISTANCE COMMISSION

Sunshine Act Meeting Notice

AGENCY: Election Assistance Commission (EAC).

ACTION: Notice of Public Meeting Agenda.

DATE AND TIME: Tuesday, September 27, 2005, 10 a.m.-12 noon.

PLACE: U.S. Election Assistance Commission, 1225 New York Ave., NW., Suite 1100, Washington, DC 20005 (Metro Stop: Metro Center).

AGENDA: The Commission will receive the following reports: Title II Requirements Payments Update; public comments received regarding the proposed Voluntary Voting System Guidelines; and updates on other administrative matters. The Commission will receive presentations on the Election Day Survey Report.

This meeting will be open to the public.

FOR FURTHER INFORMATION CONTACT: Bryan Whitener, Telephone: (202) 566-3100.

Thomas R. Wilkey,
Executive Director, U.S. Election Assistance Commission.

[FR Doc. 05-18219 Filed 9-9-05; 11:02 am]

BILLING CODE 6820-KF-M